INTERNATIONAL TRADE COMMISSION

[Investigation Nos. 701-TA-682 and 731-TA-1592 (Final)]

Certain Freight Rail Couplers and Parts Thereof From China

Determinations

On the basis of the record ¹ developed in the subject investigations, the United States International Trade Commission (“Commission”) determines, pursuant to the Tariff Act of 1930 (“the Act”), that an industry in the United States is materially injured by reason of imports of certain freight rail couplers and parts thereof (“FRCs”) from China, provided for in subheadings 8607.30.10 and 7326.90.86 of the Harmonized Tariff Schedule of the United States, that have been found by the U.S. Department of Commerce (“Commerce”) to be sold in the United States at less than fair value (“LTFV”) and subsidized by the government of China.2 3 4

¹ The record is defined in § 207.2(f) of the Commission's Rules of Practice and Procedure (19 CFR 207.2(f)).

² 88 FR 32184 (May 19, 2023) and 88 FR 34485 (May 30, 2023).

³ Chairman David S. Johanson dissenting, and Commissioner Randolph J. Stayin not participating.

⁴ The Commission also finds that imports subject to Commerce's affirmative critical circumstances determination are not likely to undermine seriously the remedial effect of the antidumping and countervailing duty orders on FRCs from China.

Background

The Commission instituted these investigations effective September 28, 2022, following receipt of petitions filed with the Commission and Commerce by the Coalition of Freight Coupler Producers, consisting of McConway & Torley LLC, Pittsburgh, Pennsylvania, and the United Steel, Paper and Forestry, Rubber, Manufacturing, Energy, Allied Industrial and Service Workers International Union, AFL‐CIO, CLC. The final phase of the investigations was scheduled by the Commission following notification of preliminary determinations by Commerce that imports of FRCs from China were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on March 15, 2023 (88 FR 16031). The Commission conducted its hearing on May 18, 2023. All persons who requested the opportunity were permitted to participate.

The Commission made these determinations pursuant to §§ 705(b) and 735(b) of the Act (19 U.S.C. 1671d(b) and 19 U.S.C. 1673d(b)). It completed and filed its determinations in these investigations on July 3, 2023. The views of the Commission are contained in USITC Publication 5438 (July 2023), entitled Certain Freight Rail Couplers and Parts Thereof from China: Investigation Nos. 701-TA-682 and 731-TA-1592 (Final).

By order of the Commission.
Issued: July 3, 2023.
Lisa Barton,
Secretary to the Commission.

[FR Doc. 2023-14410 Filed 7-6-23; 8:45 am]

BILLING CODE 7020-02-P